LEGAL SERVICES CORPORATION

Notice of Intent To Award—Grant Awards for the Provision of Civil Legal Services to Eligible Low-Income Clients Beginning January 1, 2014

AGENCY: Legal Services Corporation.

ACTION: Announcement of intention to make FY 2014 Competitive Grant Awards.

SUMMARY: The Legal Services Corporation (LSC) hereby announces its intention to award grants and contracts to provide economical and effective delivery of high quality civil legal services to eligible low-income clients, beginning January 1, 2014.

DATES: All comments and recommendations must be received on or before the close of business on November 27, 2013.

ADDRESSES: Legal Services Corporation—Competitive Grants, Legal Services Corporation; 3333 K Street NW., Third Floor; Washington, DC 20007.

FOR FURTHER INFORMATION CONTACT: Reginald Haley, Office of Program Performance, at (202) 295-1545, or haleyr@lsc.gov.

SUPPLEMENTARY INFORMATION: Pursuant to LSC's announcement of funding availability on March 29, 2013 (78 FR 19326), and Grant Renewal applications due beginning June 3, 2013, LSC intends to award funds to provide civil legal services in the indicated service areas. Applicants for each service area are listed below. These amounts reflect the most current information available, i.e., 100% implementation of ACS 2009-2011 poverty population and the LSC FY 2013 Basic Field Appropriation of $316,144,749.

State and name of applicant organization | Service area | Estimated annualized 2014 funding amount
Alabama
Legal Services Alabama, Inc. | AL-4 | $5,502,403
Texas RioGrande Legal Aid, Inc. | MAL | 30,318
Alaska
Alaska Legal Services Corporation | AK-1 | 607,934
Alaska Legal Services Corporation | NAK-1 | 499,474
American Samoa
American Samoa Legal Aid | AS-1 | 204,665
Arizona
Community Legal Services, Inc. | AZ-3 | 4,622,586
Community Legal Services, Inc. | MAZ | 136,823
DNA-Peoples Legal Services, Inc. | AZ-2 | 394,550
DNA-Peoples Legal Services, Inc. | NAZ-5 | 2,409,986
Southern Arizona Legal Aid, Inc. | AZ-5 | 1,954,524
Southern Arizona Legal Aid, Inc. | NAZ-6 | 588,689
Arkansas
Center for Arkansas Legal Services | AR-7 | 2,011,209
Legal Aid of Arkansas, Inc. | AR-6 | 1,377,732
Texas RioGrande Legal Aid, Inc. | MAR | 72,841
California
Bay Area Legal Aid | CA-28 | 3,872,309
California Indian Legal Services, Inc. | CA-1 | 22,565
California Indian Legal Services, Inc. | NCA-1 | 815,953
California Rural Legal Assistance, Inc. | CA-31 | 4,391,072
California Rural Legal Assistance, Inc. | MCA | 2,432,738
Central California Legal Services, Inc. | CA-26 | 2,615,572
Greater Bakersfield Legal Assistance, Inc. | CA-2 | 938,773
Inland Counties Legal Services, Inc. | CA-12 | 4,308,476
Legal Aid Foundation of Los Angeles | CA-29 | 5,294,469
Legal Aid Society of Orange County, Inc. | CA-19 | 3,238,266
Legal Aid Society of San Diego, Inc. | CA-14 | 2,573,415
Legal Services of Northern California, Inc. | CA-27 | 3,363,185
Neighborhood Legal Services of Los Angeles County | CA-30 | 3,470,765
Colorado
Colorado Legal Services | CO-6 | 4,055,902
Colorado Legal Services | MCO | 136,868
Colorado Legal Services | NCO-1 | 88,694
Connecticut
Pine Tree Legal Assistance, Inc. | NCT-1 | 14,458
Statewide Legal Services of Connecticut, Inc. | CT-1 | 2,239,443
Delaware
Legal Aid Bureau, Inc. | MDE | 22,880
Legal Services Corporation of Delaware, Inc. | DE-1 | 635,691
District of Columbia
Neighborhood Legal Services Program of the District of Columbia | DC-1 | 695,117
Florida
Bay Area Legal Services, Inc. | FL-16 | 3,016,885
Coast to Coast Legal Aid of South Florida, Inc. | FL-18 | 1,805,142
Community Legal Services of Mid-Florida, Inc. | FL-15 | 3,765,129
Florida Rural Legal Services, Inc. | FL-17 | 3,463,810
Florida Rural Legal Services, Inc. | MFL | 827,648
Legal Services of Greater Miami, Inc. | FL-5 | 2,967,908
Legal Services of North Florida, Inc. | FL-13 | 1,393,753
Three Rivers Legal Services, Inc. | FL-14 | 1,869,181
Georgia
Atlanta Legal Aid Society, Inc. | GA-1 | 3,380,693
Georgia Legal Services Program | GA-2 | 7,106,251
Georgia Legal Services Program | MGA | 361,311
Guam
Guam Legal Services Corporation | GU-1 | 230,653
Hawaii
Legal Aid Society of Hawaii | HI-1 | 1,118,203
Legal Aid Society of Hawaii | NHI-1 | 211,556
Idaho
Idaho Legal Aid Services, Inc. | ID-1 | 1,345,445
Idaho Legal Aid Services, Inc. | MID | 172,249
Idaho Legal Aid Services, Inc. | NID-1 | 60,002
Illinois
Land of Lincoln Legal Assistance Foundation, Inc. | IL-3 | 2,313,854
Legal Assistance Foundation | IL-6 | 5,348,079
Legal Assistance Foundation | MIL | 230,048
Prairie State Legal Services, Inc. | IL-7 | 3,363,430
Indiana
Indiana Legal Services, Inc. | IN-5 | 6,042,565
Indiana Legal Services, Inc. | MIN | 104,781
Iowa
Iowa Legal Aid | IA-3 | 2,309,009
Iowa Legal Aid | MIA | 34,770
Kansas
Kansas Legal Services, Inc. | KS-1 | 2,417,290
Kentucky
Appalachian Research and Defense Fund of Kentucky | KY-5 | 1,413,551
Kentucky Legal Aid | KY-9 | 1,051,114
Legal Aid of the Bluegrass | KY-10 | 1,362,670
Legal Aid Society Inc. | KY-2 | 1,219,824
Texas RioGrande Legal Aid, Inc. | MKY | 39,223
Louisiana
Acadiana Legal Service Corporation | LA-10 | 1,356,049
Legal Services of North Louisiana, Inc. | LA-11 | 1,304,530
Southeast Louisiana Legal Services Corporation | LA-1 | 993,071
Southeast Louisiana Legal Services Corporation | LA-12 | 1,628,556
Texas RioGrande Legal Aid, Inc. | MLA | 25,383
Maine
Pine Tree Legal Assistance, Inc. | ME-1 | 1,017,173
Pine Tree Legal Assistance, Inc. | MMX-1 | 115,101
Pine Tree Legal Assistance, Inc. | NME-1 | 59,527
Maryland
Legal Aid Bureau, Inc. | MD-1 | 3,432,398
Legal Aid Bureau, Inc. | MMD | 83,786
Massachusetts
Community Legal Aid, Inc. | MA-10 | 1,289,166
Merrimack Valley Legal Services, Inc. | MA-4 | 713,428
South Coastal Counties Legal Services | MA-12 | 792,910
Volunteer Lawyers Project of the Boston Bar Association | MA-11 | 1,752,954
Michigan
Legal Aid and Defender Association, Inc. | MI-13 | 4,024,993
Legal Aid of Western Michigan | MI-15 | 2,043,232
Legal Services of Eastern Michigan | MI-14 | 1,498,675
Legal Services of Northern Michigan, Inc. | MI-9 | 751,068
Legal Services of South Central Michigan | MI-12 | 1,508,224
Legal Services of South Central Michigan | MMI | 554,716
Michigan Indian Legal Services, Inc. | NMI-1 | 152,034
Micronesia
Micronesian Legal Services, Inc. | MP-1 | 1,156,731
Minnesota
Anishinabe Legal Services, Inc. | NMN-1 | 220,713
Central Minnesota Legal Services, Inc. | MN-6 | 1,543,792
Legal Aid Service of Northeastern Minnesota | MN-1 | 404,504
Legal Services of Northwest Minnesota Corporation | MN-4 | 309,690
Southern Minnesota Regional Legal Services, Inc. | MMN | 184,378
Southern Minnesota Regional Legal Services, Inc. | MN-5 | 1,425,866
Mississippi
Mississippi Center for Legal Services | MS-10 | 2,445,015
Mississippi Center for Legal Services | NMS-1 | 76,772
North Mississippi Rural Legal Services, Inc. | MS-9 | 1,609,781
Texas RioGrande Legal Aid, Inc. | MMS | 52,593
Missouri
Legal Aid of Western Missouri | MMO | 75,074
Legal Aid of Western Missouri | MO-3 | 1,786,978
Legal Services of Eastern Missouri, Inc. | MO-4 | 1,842,274
Legal Services of Southern Missouri | MO-7 | 1,557,046
Mid-Missouri Legal Services Corporation | MO-5 | 410,231
Montana
Montana Legal Services Association | MMT | 50,302
Montana Legal Services Association | MT-1 | 878,279
Montana Legal Services Association | NMT-1 | 147,055
Nebraska
Legal Aid of Nebraska | MNE | 38,965
Legal Aid of Nebraska | NE-4 | 1,404,961
Legal Aid of Nebraska | NNE-1 | 30,528
Nevada
Nevada Legal Services, Inc. | NNV-1 | 122,810
Nevada Legal Services, Inc. | NV-1 | 2,477,932
New Hampshire
Legal Advice & Referral Center, Inc. | NH-1 | 684,443
New Jersey
Central Jersey Legal Services, Inc. | NJ-17 | 1,009,407
Essex-Newark Legal Services Project, Inc. | NJ-8 | 766,510
Legal Services of Northwest Jersey | NJ-15 | 358,423
Northeast New Jersey Legal Services Corporation | NJ-18 | 1,503,926
Ocean-Monmouth Legal Services, Inc. | NJ-12 | 627,706
South Jersey Legal Services, Inc. | MNJ | 111,189
South Jersey Legal Services, Inc. | NJ-16 | 1,149,705
New Mexico
DNA-Peoples Legal Services, Inc. | NM-1 | 174,328
DNA-Peoples Legal Services, Inc. | NNM-2 | 20,981
New Mexico Legal Aid | MNM | 80,485
New Mexico Legal Aid | NM-5 | 2,366,505
New Mexico Legal Aid | NNM-4 | 429,121
New York
Legal Aid Society of Mid-New York, Inc. | MNY | 255,089
Legal Aid Society of Mid-New York, Inc. | NY-22 | 1,461,666
Legal Aid Society of Northeastern New York, Inc. | NY-21 | 1,138,400
Legal Assistance of Western New York, Inc. | NY-23 | 1,537,538
Legal Services NYC | NY-9 | 10,245,135
Legal Services of the Hudson Valley | NY-20 | 1,496,082
Nassau/Suffolk Law Services Committee, Inc. | NY-7 | 1,071,137
Neighborhood Legal Services, Inc. | NY-24 | 1,100,335
North Carolina
Legal Aid of North Carolina, Inc. | MNC | 493,913
Legal Aid of North Carolina, Inc. | NC-5 | 9,780,735
Legal Aid of North Carolina, Inc. | NNC-1 | 201,563
North Dakota
Legal Services of North Dakota | ND-3 | 412,354
Legal Services of North Dakota | NND-3 | 248,781
Southern Minnesota Regional Legal Services, Inc. | MND | 106,820
Ohio
Community Legal Aid Services, Inc. | OH-20 | 1,789,848
Legal Aid of Western Ohio, Inc. | MOH | 116,085
Legal Aid of Western Ohio, Inc. | OH-23 | 2,780,583
Legal Aid Society of Greater Cincinnati | OH-18 | 1,511,576
Ohio State Legal Services | OH-17 | 1,653,585
Ohio State Legal Services | OH-5 | 1,575,615
The Legal Aid Society of Cleveland | OH-21 | 2,008,919
Oklahoma
Legal Aid Services of Oklahoma, Inc. | MOK | 57,669
Legal Aid Services of Oklahoma, Inc. | OK-3 | 3,882,012
Oklahoma Indian Legal Services, Inc. | NOK-1 | 756,200
Oregon
Legal Aid Services of Oregon | MOR | 513,332
Legal Aid Services of Oregon | NOR-1 | 170,489
Legal Aid Services of Oregon | OR-6 | 3,313,816
Pennsylvania
Laurel Legal Services, Inc. | PA-5 | 582,602
Legal Aid of Southeastern Pennsylvania | PA-23 | 1,024,199
MidPenn Legal Services, Inc. | PA-25 | 2,127,790
Neighborhood Legal Services Association | PA-8 | 1,286,515
North Penn Legal Services, Inc. | PA-24 | 1,704,415
Northwestern Legal Services | PA-26 | 641,552
Philadelphia Legal Assistance Center | MPA | 152,741
Philadelphia Legal Assistance Center | PA-1 | 2,523,164
Southwestern Pennsylvania Legal Services, Inc. | PA-11 | 388,245
Puerto Rico
Community Law Office, Inc. | PR-2 | 203,867
Puerto Rico Legal Services, Inc. | MPR | 267,932
Puerto Rico Legal Services, Inc. | PR-1 | 10,251,408
Rhode Island
Rhode Island Legal Services, Inc. | RI-1 | 875,802
South Carolina
South Carolina Legal Services, Inc. | MSC | 182,280
South Carolina Legal Services, Inc. | SC-8 | 5,071,133
South Dakota
Dakota Plains Legal Services, Inc. | NSD-1 | 862,328
Dakota Plains Legal Services, Inc. | SD-4 | 355,360
East River Legal Services | SD-2 | 355,231
Tennessee
Legal Aid of East Tennessee | TN-9 | 2,218,950
Legal Aid Society of Middle Tennessee and the Cumberlands | TN-10 | 2,835,505
Memphis Area Legal Services, Inc. | TN-4 | 1,309,884
Texas RioGrande Legal Aid, Inc. | MTN | 58,448
West Tennessee Legal Services, Inc. | TN-7 | 639,210
Texas
Legal Aid of NorthWest Texas | TX-14 | 7,968,393
Lone Star Legal Aid | TX-13 | 9,474,577
Texas RioGrande Legal Aid, Inc. | MTX | 1,280,067
Texas RioGrande Legal Aid, Inc. | NTX-1 | 28,905
Texas RioGrande Legal Aid, Inc. | TX-15 | 9,453,338
Utah
Utah Legal Services, Inc. | MUT | 62,508
Utah Legal Services, Inc. | NUT-1 | 75,982
Utah Legal Services, Inc. | UT-1 | 2,161,982
Vermont
Legal Services Law Line of Vermont, Inc. | VT-1 | 448,520
Virgin Islands
Legal Services of the Virgin Islands, Inc. | VI-1 | 151,995
Virginia
Blue Ridge Legal Services, Inc. | VA-19 | 722,533
Central Virginia Legal Aid Society, Inc. | MVA | 145,342
Central Virginia Legal Aid Society, Inc. | VA-18 | 1,023,601
Legal Aid Society of Eastern Virginia | VA-16 | 1,055,663
Legal Services of Northern Virginia, Inc. | VA-20 | 1,155,959
Southwest Virginia Legal Aid Society, Inc. | VA-15 | 659,671
Virginia Legal Aid Society, Inc. | VA-17 | 783,175
Washington
Northwest Justice Project | MWA | 672,661
Northwest Justice Project | NWA-1 | 263,092
Northwest Justice Project | WA-1 | 4,969,119
West Virginia
Legal Aid of West Virginia, Inc. | WV-5 | 2,076,150
Wisconsin
Legal Action of Wisconsin, Inc. | MWI | 83,902
Legal Action of Wisconsin, Inc. | WI-5 | 3,580,841
Wisconsin Judicare, Inc. | NWI-1 | 143,264
Wisconsin Judicare, Inc. | WI-2 | 943,708
Wyoming
Legal Aid of Wyoming, Inc. | NWY-1 | 159,594
Legal Aid of Wyoming, Inc. | WY-4 | 384,024

These grants and contracts will be awarded under the authority conferred on LSC by the Legal Services Corporation Act, as amended, 42 U.S.C. 2996e(a)(l). Awards will be made so that each service area is served, although no listed organization is guaranteed an award or contract. Grants will become effective and grant funds will be distributed on or about January 1, 2014.

This notice is issued pursuant to 42 U.S.C. 2996f(f). Comments and recommendations concerning potential grantees are invited, and should be delivered to LSC within thirty (30) days from the date of publication of this notice.

Dated: October 23, 2013.
Atitaya C. Rok,
Staff Attorney.

[FR Doc. 2013-25334 Filed 10-25-13; 8:45 am]

BILLING CODE 7050-01-P